DEPARTMENT OF TRANSPORTATION

Federal Railroad Administration

[Waiver Petition Docket Number FRA-2000-8268]

Petition for Waivers of Compliance

In accordance with 49 CFR §§ 211.9 and 211.41, notice is hereby given that the Federal Railroad Administration (FRA) has received a request for a waiver of compliance with certain requirements of the Federal safety laws and regulations. The petition is described below, including the party seeking relief, the regulatory provisions involved, the nature of the relief being requested, and the petitioner's arguments in favor of relief.

Burlington Northern Santa Fe Railway Company

Burlington Northern Santa Fe Railway (BNSF) seeks a permanent waiver of compliance from certain requirements of 49 CFR part 229 (Railroad Locomotive Safety Standards) for a select group of C-44-9W locomotives, road numbers BNSF 700-799, 960-1123, 4300-4999, and 5370-5499. Specifically, BNSF requests a waiver from 49 CFR 229.23(a), which requires that the interval between any two periodic inspections may not exceed 92 days. BNSF proposes to extend this interval to 122 days on this group of locomotives.

In support of this proposal BNSF states: “These locomotives contain the industry's latest technology in the areas of safety and reliability, are microprocessor controlled and equipped with New York Air Brake Corporation computer controlled brakes.” They cite calender day inspections and other inspections that are done every 3 to 4 days which will help ensure safe operation. Since April 1, 1999, they have been performing periodic inspections every 61 days. They estimate that they have had a 0.87% defect rate after 61 days. In conclusion BNSF states: “Extending the periodic maintenance interval from 92 to 122 days will not adversely effect the safety or performance of C44-9W locomotives.”

Interested parties are invited to participate in these proceedings by submitting written reviews, data, or comments. If any interested party desires an opportunity for oral comment, they should notify FRA, in writing, before the end of the comment period and specify the basis for their request. FRA will schedule a public hearing in connection with these proceedings if the basis is found to be sufficient.

All communications concerning these proceedings should identify the appropriate docket number, (e.g., Waiver Petition Docket Number FRA-2000-8268) and must be submitted to the DOT Docket Management Facility, Room PL-401 (Plaza Level), 400 Seventh Street, SW., Washington, DC 20590. Communications received within 45 days from the date of this notice will be considered by FRA before final action is taken. Comments received after that date will be considered as far as practicable. All written communications concerning these proceedings are available for examination during regular business hours (9 a.m.-5 p.m.) at the above facility. All documents in the public docket are also available for inspection and copying on the Internet at the docket facility's web site at ­http://dms.dot.gov.

Issued in Washington, DC on January 11, 2001.
Grady C. Cothen, Jr.,
Deputy Associate Administrator for Safety Standards and Program Development.

[FR Doc. 01-1555 Filed 1-17-01; 8:45 am]

BILLING CODE 4910-06-P